DEPARTMENT OF THE INTERIOR

National Park Service

Notice of Inventory Completion for Native American Human Remains and Associated Funerary Objects in the Possession of the Museum of Anthropology, University of Missouri-Columbia, Columbia, MO

AGENCY: National Park Service, Interior.

ACTION: Notice.

Notice is hereby given in accordance with provisions of the Native American Graves Protection and Repatriation Act (NAGPRA), 43 CFR 10.9, of the completion of an inventory of human remains and associated funerary objects in the possession of the Museum of Anthropology, University of Missouri-Columbia, Columbia, MO.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by University of Missouri-Columbia professional staff in consultation with representatives of the Otoe-Missouria Tribe of Indians, Oklahoma; and the Iowa Tribe of Oklahoma.

Between 1939-1980, human remains representing a minimum of 14 individuals were recovered from the Utz site (site 23SA002), Saline County, MO, during excavations conducted by the University of Missouri-Columbia professional staff, supervised field school students, and volunteers of the Missouri Archaeological Society. No known individuals were identified. The 132 associated funerary objects are ceramic sherds, glass sherds, debitage, metal fragments, 3 copper bracelets, projectile points, a bone awl, a groundstone pipe, pieces of hematite, a blue glass bead, a piece of quartz, and faunal remains.

Based on oral tradition, types of associated funerary objects, and historical documents, these individuals have been identified as Native American. Based on radiocarbon dating, the presence of trade objects, and historical documents, the Utz site has been identified as a village occupation estimated to date to C.E. 1460-1712. Oral tradition, archaeological evidence, and historical documents indicate that the Utz site was a village of the Missouria Tribe, and these burial are therefore reasonably believed to be culturally affiliated with the Otoe-Missouria Tribe of Indians, Oklahoma.

Based on the above-mentioned information, officials of the University of Missouri-Columbia have determined that, pursuant to 43 CFR 10.2 (d)(1), the human remains listed above represent the physical remains of a minimum of 14 individuals of Native American ancestry. Officials of the University of Missouri-Columbia also have determined that, pursuant to 43 CFR 10.2 (d)(2), the 132 objects listed above are reasonably believed to have been placed with or near individual human remains at the time of death or later as part of the death rite or ceremony. Lastly, officials of the University of Missouri-Columbia also have determined that, pursuant to 43 CFR 10.2 (e), there is a relationship of shared group identity that can be reasonably traced between these Native American human remains and associated funerary objects and the Otoe-Missouria Tribe of Indians, Oklahoma. This notice has been sent to officials of the Otoe-Missouria Tribe of Indians, Oklahoma; and the Iowa Tribe of Oklahoma. Representatives of any other Indian tribe that believes itself to be culturally affiliated with these human remains and associated funerary objects should contact Dr. Michael O'Brien, Director, Museum of Anthropology, 317 Lowry Hall, University of Missouri-Columbia, Columbia, MO 65211, telephone (573) 882-4421, before May 3, 2001. Repatriation of the human remains and associated funerary objects to the Iowa Tribe of Oklahoma on behalf of the Otoe-Missouria Tribe of Indians, Oklahoma may begin after that date if no additional claimants come forward.

Dated: March 20, 2001.
John Robbins,
Assistant Director, Cultural Resources Stewardship and Partnerships.

[FR Doc. 01-8175 Filed 4-2-01; 8:45 am]

BILLING CODE 4310-70-F